DEPARTMENT OF VETERANS AFFAIRS

Privacy Act of 1974; Report of Matching Agreement

AGENCY: Department of Veterans Affairs.

ACTION: Notice of Computer Matching Program.

SUMMARY: Notice is hereby given that the Department of Veterans Affairs (VA) intends to conduct a recurring computer program matching records from the VA Compensation, Pension, Education and Rehabilitation (CP&E) Records, VA Personnel and Accounting Integrated Data (PAID), VA Patient Treatment File (PTF), and VA National Patient Care (NPC).

The purpose of the match is to identify any employees receiving pension benefits, unemployability benefits, or medical treatment for non-service connected conditions. VA Office of Inspector General will use this information to initiate an independent verification process to determine eligibility and entitlement to these VA benefits.

Records To Be Matched

The records involved in the match are: VA system of records Compensation, Pension, Education and Rehabilitation Records-VA (58VA21/22) first published at 41 FR 9294 dated March 3, 1976, and last amended at 65 FR 37605 dated June 15, 2000, with other amendments as cited therein; VA system of records Patient Medical Records-VA (24VA136) first published at 40 FR 38095 dated August 26, 1975, and last amended at 63 FR 7196 dated February 12, 1998, with other amendments as cited therein; and VA system of records Personnel and Accounting System-VA (27VA047) first published at 40 FR 38095 dated August 26, 1975, and last amended at 65 FR 44097 dated July 17, 2000, and with other amendments as cited therein.

This notice is provided in accordance with the provisions of the Privacy Act of 1974 as amended by Public Law 100-503.

DATES: The match will start no sooner than 30 days after publication in the Federal Register and end not more than 18 months after the agreement is properly implemented by VA. The VA Data Integrity Board (DIB) may extend this match for 12 months provided the Agency certifies to the DIB within three months of the ending date of the original match that the matching program has been conducted in compliance with the original matching program.

ADDRESSES: Interested individuals may submit written comments to the Director, Office of Regulations Management (02D), Department of Veterans Affairs, 810 Vermont Avenue, NW, Room 1154, Washington, DC 20420. Comments will be available for public inspection at the above address in the Office of Regulations Management, Room 1158, between 8 a.m. and 4:30 p.m., Monday through Friday, except holidays.

FOR FURTHER INFORMATION CONTACT: Tom Phelps (52CO), Project Manager, Central Office Operations Division, Office of the Inspector General, Department of Veterans Affairs, 810 Vermont Avenue, NW, Washington, DC 20420, (202) 565-4553.

SUPPLEMENTARY INFORMATION: This information is required by Title 5 U.S.C. subsection 552a(e)(12), the Privacy Act of 1974. A copy of this notice has been provided to both Houses of Congress and OMB.

Approved: August 13, 2001.
Anthony J. Principi,
Secretary of Veterans Affairs.

[FR Doc. 01-22073 Filed 8-30-01; 8:45 am]

BILLING CODE 8320-01-P